DEPARTMENT OF HOMELAND SECURITY

Bureau of Customs and Border Protection

Automated Commercial Environment (ACE): Ability of Third Parties To Submit Manifest Information on Behalf of Truck Carriers Via the ACE Secure Data Portal in the Test of the ACE Truck Manifest System

AGENCY: Customs and Border Protection, Department of Homeland Security.

ACTION: General notice.

SUMMARY: This document announces that truck carriers participating in the ACE Truck Manifest Test and electing to use third parties to submit manifest information to the Bureau of Customs and Border Protection (CBP) via the Automated Commercial Environment (ACE) Secure Data Portal are no longer required to have ACE portal accounts. Thus, truck carriers without ACE portal accounts, while participating in the test of the ACE truck manifest system, may now use third parties (such as Customs brokers or other truck carriers) with ACE portal accounts to electronically transmit truck manifest information, via the ACE portal, on their behalf.

DATES: Truck carriers participating in the ACE Truck Manifest Test without ACE portal accounts may use third parties with ACE portal accounts to electronically transmit truck manifest information via the ACE portal, on their behalf, beginning March 15, 2007.

FOR FURTHER INFORMATION CONTACT: Mr. James Swanson, via e-mail at james.d.swanson@dhs.gov.

SUPPLEMENTARY INFORMATION:

Background

On February 4, 2004 and September 13, 2004, CBP published general notices in the Federal Register (69 FR 55167 and 69 FR 5360) announcing a test, in conjunction with the Federal Motor Carrier Safety Administration (FMCSA), allowing participating truck carriers to transmit electronic manifest data in ACE, including advance cargo information as required by section 343(a) of the Trade Act of 2002, as amended by the Maritime Transportation Security Act of 2002. The advance cargo information requirements are detailed in the final rule published in the Federal Register at 68 FR 68140 on December 5, 2003. Truck carriers participating in the test opened up Truck Carrier [Portal] Accounts which provided them with the ability to electronically transmit truck manifest data and obtain release of their cargo, crew, conveyances, and equipment via the ACE Portal or electronic data interchange (EDI) messaging.

In the September 13, 2004, notice, CBP stated that, in order to be eligible for participation in this test, a carrier must have:

1. Submitted an application (i.e., statement of intent to establish an ACE [Portal] Account and to participate in the testing of electronic truck manifest functionality) as set forth in the February 4, 2004, notice;

2. Provided a Standard Carrier Alpha Code(s) (SCAC); and

3. Provided the name, address, and e-mail of a point of contact to receive further information.

In addition, the notice provided that participants intending to use the ACE Secure Data Portal as the means to file the manifest must submit a statement certifying the ability to connect to the Internet. Participants intending to use an EDI interface are required to first test their ability to send and receive electronic messages in either American National Standards Institute (ANSI) X12 or United Nations/Directories for Electronic Data Interchange for Administration, Commerce and Transport (UN/EDIFACT) format with CBP. The September 13, 2004, notice indicated that acceptance into this test does not guarantee eligibility for, or acceptance into, future technical tests.

Subsequently, in a Federal Register notice published on March 29, 2006 (71 FR 15756), CBP announced a change advising truck carriers that they were no longer required to open ACE Truck Carrier [Portal] Accounts to participate in the ACE test. Specifically, truck carriers were advised that they could elect to use a third party to submit electronic manifest information to CBP via EDI. Truck carriers participating in this fashion would not have access to operational data and would not receive status messages on ACE Accounts, nor would they have access to integrated Account data from multiple system sources. These truck carriers would be able to obtain release of their cargo, crew, conveyances, and equipment via EDI messaging back to the transmitter of the information. A truck carrier using a third party to transmit via EDI cargo, crew, conveyance and equipment information to CBP would be required to have a Standard Carrier Alpha Code (SCAC). Any truck carrier with a SCAC could arrange to have a third party transmit manifest information to CBP via EDI consistent with the requirements of the ACE Truck Manifest Test. Due to limited functionality available via the portal at that time, truck carriers were advised that if they elected to use a third party to transmit the truck manifest information to CBP via the ACE portal (rather than EDI), the truck carrier who is submitting that information to the third party (for transmission to CBP) would be required to have an ACE Truck Carrier Account as described in the February 4, 2004, notice. In clarification of the March 29, 2006, notice, if a truck carrier elects to use a third party to transmit the truck manifest information to CBP via EDI, the truck carrier would need to have a non-portal account.

Implementation

Since the publication of the March 29, 2006, notice, additional functionality has been deployed in the ACE portal so that a party with an ACE portal account now has the ability to transmit the manifest information via the ACE portal on behalf of other truck carriers. As a result, CBP announces in this document that truck carriers participating in the ACE Truck Manifest Test and electing to use a third party to submit manifest information to CBP via the ACE portal are no longer required to have ACE portal accounts as previously set forth in the March 29, 2006, notice.

By making this change, CBP is opening the ACE Truck Manifest Test to parties previously ineligible to participate. Truck carriers who do not have ACE portal accounts and who elect to use third parties to submit manifest information to CBP will no longer be restricted to electronic data interchange (EDI) messaging only.

Any party, whether a truck carrier or other entity, planning to transmit electronic truck manifest information on behalf of other truck carriers must establish or have established an ACE portal account. Interested parties must submit an application as set forth in the February 4, 2004, notice. Eligibility requirements specified in that notice include providing CBP with a Standard Carrier Alpha Code(s) (SCAC), if applicable, and providing the name, address, and e-mail of a point of contact to receive further information. Current portal truck carrier accounts wishing to transmit a manifest on behalf of another carrier will be able to do so through their existing accounts.

Carriers who use a third party to transmit manifest information will not have access to their manifest data unless they establish their own ACE Secure Data Portal Accounts. Truck carriers who elect to use the third party transmitter method will not receive status messages on ACE transactions. Those messages will be provided to the party transmitting the manifest information. Carriers without portal accounts who use a third party to transmit manifest information will need to have a non-portal account.

Previous Notices Continue To Be Applicable

All of the other aspects of the ACE Truck Manifest Test as set forth in the September 13, 2004, notice (69 FR 55167), as modified by the general notice published in the Federal Register (70 FR 13514) on March 21, 2005, continue to be applicable. The March 21, 2005, notice clarified that all relevant data elements are required to be submitted in the automated truck manifest submission. All of the aspects of the February 4, 2004, notice (69 FR 5360) also continue to be applicable, except as revised in this notice.

Dated: March 5, 2007.
Jayson P. Ahern,
Assistant Commissioner, Office of Field Operations.

[FR Doc. E7-4773 Filed 3-14-07; 8:45 am]

BILLING CODE 9111-14-P